DEPARTMENT OF VETERANS AFFAIRS

[OMB Control No. 2900-0727]

Proposed Information Collection (Survey of Post-Deployment Adjustment Among OEF and OIF Veterans); Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to identify gender-specific treatment needs of returning Operation Enduring Freedom (OEF) and Operation Iraqi Freedom (OIF) Veterans.

DATES: Written comments and recommendations on the proposed collection of information should be received on or before January 23, 2012.

ADDRESSES: Submit written comments on the collection of information through the Federal Docket Management System (FDMS) at http://www.Regulations.gov or to Cynthia Harvey-Pryor, Veterans Health Administration (10P7BFP), Department of Veterans Affairs, 810 Vermont Avenue, NW, Washington, DC 20420; or email: cynthia.harvey-pryor@va.gov. Please refer to “OMB Control No. 2900-0727” in any correspondence. During the comment period, comments may be viewed online through FDMS.

FOR FURTHER INFORMATION CONTACT: Cynthia Harvey-Pryor at (202) 461-5870 or FAX (202) 273-9381.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Survey of Post-Deployment Adjustment Among OEF and OIF Veterans, VA Form 10-21089.

OMB Control Number: 2900-0727.

Type of Review: Extension of a currently approved collection.

Abstract: The data collected on VA Form 10-21089 will be used to access health conditions, occupational, family and social adjustment and functioning of Veterans who were deployed to Afghanistan and/or Iraq. The goal is to identify the gender-specific treatment needs of Operation Enduring Freedom (OEF) and Operation Iraqi Freedom (OIF) Veterans with an emphasis on the needs of female Veterans who experienced war zone stressor beyond traditional combat and sexual trauma during deployment. VA will use the data to identify how homecoming experiences (healthcare, relationship and parenting readjustment) differently affect male and female Veterans.

Affected Public: Individuals or households.

Estimated Annual Burden: 1,333 hours.

Estimated Average Burden per Respondent: 20 minutes.

Frequency of Response: On occasion.

Estimated Number of Respondents: 4,000.

Dated: November 17, 2011.
By direction of the Secretary.
Denise McLamb,
Program Analyst, Enterprise Records Service.

[FR Doc. 2011-30086 Filed 11-21-11; 8:45 am]

BILLING CODE 8320-01-P